NUCLEAR REGULATORY COMMISSION

Notice of Extension of the Public Comment Period for Scoping Process To Prepare an Environmental Impact Statement for the License Renewal of Nuclear Power Plants

Notice is hereby given that the U.S. Nuclear Regulatory Commission (the Commission) has extended the public comment period for the scoping process on the update to the “Generic Environmental Impact Statement (GEIS) for License Renewal of Nuclear Plants”, NUREG-1437 (May 1996) and Addendum 1 (August 1999). The public comment period is extended to September 17, 2003.

The GEIS and Addendum 1 to the GEIS were prepared pursuant to 10 CFR part 51 and are available for public inspection at the NRC Public Document Room (PDR), located at One White Flint North, 11555 Rockville Pike (first floor), Rockville, Maryland, or from the Publicly Available Records component of NRC's Agencywide Documents Access and Management System (ADAMS). ADAMS is accessible at http://www.nrc.gov/reading-rm/adams.html, which provides access through the NRC's Public Electronic Reading Room (PERR) link. Persons who do not have access to ADAMS, or who encounter problems in accessing the documents located in ADAMS, should contact the NRC's PDR Reference staff at 1-800-397-4209, or 301-415-4737, or by e-mail to PDR@nrc.gov. The GEIS, Addendum 1, and Supplements may also be viewed on the Internet at http://www.nrc.gov/reading-rm/doc-collections/nuregs/staff/sr1437/. The NRC prepares site-specific supplements to the GEIS for each license renewal application assessing the environmental impacts specific to that power plant location; these reports may be useful to scoping participants to understand the environmental review process and the environmental issues associated with the review for license renewal. The Supplements to the GEIS can also be viewed on the Internet in the context for each project and are listed by project at: http://www.nrc.gov/reactors/operating/licensing/renewal/applications.html. The update of the GEIS is a generic activity and, therefore, is not the appropriate forum to consider site-specific issues or concerns.

Any interested party may send written comments on the environmental scope of the GEIS Update Project to the Chief, Rules and Directives Branch, Division of Administrative Services, Office of Administration, Mail stop T-6 D59, U.S. Nuclear Regulatory Commission, Washington, DC 20555-0001. Comments may also be delivered to Room T-6 D59, Two White Flint North, 11545 Rockville Pike, Rockville, Maryland, from 7:30 a.m. to 4:15 p.m. during Federal workdays. To be considered in the scoping process, written comments should be postmarked by September 17, 2003. Electronic comments may be sent by e-mail to the NRC at LRGEISUpdate@nrc.gov. Electronic submissions should be sent no later than September 17, 2003, to be considered timely in the scoping process. All comments received by the NRC will be available electronically and accessible through the NRC's PERR link at http://www.nrc.gov/reading-rm/adams.html.

FOR FURTHER INFORMATION CONTACT: Mr. Barry Zalcman, Environmental Section, License Renewal and Environmental Impacts Program, Division of Regulatory Improvement Programs, U.S. Nuclear Regulatory Commission, Washington, DC 20555. Mr. Zalcman may be contacted by telephone at 1-800-368-5642, extension 2419, or by e-mail at LRGEISUpdate@nrc.gov.

Dated at Rockville, Maryland, this 15th day of August, 2003.
For the Nuclear Regulatory Commission.
John R. Tappert,
Acting Program Director, License Renewal and Environmental Impacts Program, Division of Regulatory Improvement Programs, Office of Nuclear Reactor Regulation.

[FR Doc. 03-21524 Filed 8-21-03; 8:45 am]

BILLING CODE 7590-01-P